DEPARTMENT OF AGRICULTURE

Agricultural Marketing Service

7 CFR Part 1222

[Doc. No. AMS-SC-23-0080]

Paper and Paper-Based Packaging Promotion, Research and Information Order; Clarifying Changes

AGENCY: Agricultural Marketing Service, USDA.

ACTION: Final rule; delay of effective date.

SUMMARY: This document delays the effective date of the January 21, 2025, final rule revising the regulations related to the Paper and Paper-Based Packaging Promotion, Research and Information Order (Order). The amendments included an added definition for partnership; clarification of the nominations process; clarification about in person and electronic voting for any Board meetings; an update of the timing of financial reporting; and a revision of requirements for when exemptions can be requested.

DATES: As of February 10, 2025, the effective date of the final rule amending 7 CFR part 1222, published on January 21, 2025 (90 FR 6779), is delayed until March 21, 2025.

FOR FURTHER INFORMATION CONTACT: The Standardization Branch, Specialty Crops Inspection Division, Specialty Crops Program, Agricultural Marketing Service, U.S. Department of Agriculture, National Training and Development Center; 100 Riverside Parkway, Suite 101; Fredericksburg, Virginia 22406; fax: (540) 361-1199, or via the internet at: https://www.regulations.gov.

SUPPLEMENTARY INFORMATION: In accordance with the memorandum of January 20, 2025, from the President to executive departments and agencies, entitled “Regulatory Freeze Pending Review,” ¹ this document temporarily delays the effective date of the rule titled, “Paper and Paper-Based Packaging Promotion, Research and Information Order; Clarifying Changes,” which was published in the Federal Register on January 21, 2025 (90 FR 6779). The rule made multiple clarifying amendments to the Order to bring it up to date with current industry practices. These amendments included an added definition for partnership; clarification on the nomination process; clarification of language about in person and electronic voting for any Board meetings; an update of the timing of financial reporting; and revised requirements concerning when exemptions may be requested. The Board, which is composed of domestic manufacturers from across the country and importers, unanimously recommended the changes to the Order on August 19, 2023.

¹ https://www.whitehouse.gov/presidential-actions/2025/01/regulatory-freeze-pending-review/.

This action is exempt from notice and comment under 5 U.S.C. 553 and is applicable immediately upon publication in the Federal Register, based on the good cause exceptions in 5 U.S.C. 553(b)(B) and 553(d)(3), respectively. Seeking public comment is impracticable, unnecessary, and contrary to the public interest. The temporary delay in effective date is necessary to give Department officials the opportunity for further review and consideration of new regulations, consistent with the President's memorandum of January 20, 2025. Given the imminence of the effective date, seeking prior public comment on this temporary delay would have been impractical, as well as contrary to the public interest in the orderly promulgation and implementation of regulations. The imminence of the effective date is also good cause for making this action effective immediately upon publication.

Erin Morris,
Associate Administrator, Agricultural Marketing Service.

[FR Doc. 2025-02423 Filed 2-6-25; 8:45 am]

BILLING CODE P